DEPARTMENT OF ENERGY

Federal Energy Regulatory Commission

Combined Notice of Filings #1

Take notice that the Commission received the following exempt wholesale generator filings:

Docket Numbers: EG19-150-000.

Applicants: East Blackland Solar Project 1 LLC.

Description: Notice of Self-Certification of Exempt Wholesale Generator Status of East Blackland Solar Project 1 LLC.

Filed Date: 7/17/19.

Accession Number: 20190717-5027.

Comments Due: 5 p.m. ET 8/7/19.

Docket Numbers: EG19-151-000.

Applicants: RE Maplewood LLC.

Description: Notice of Self-Certification of Exempt Wholesale Generator Status of RE Maplewood LLC.

Filed Date: 7/17/19.

Accession Number: 20190717-5030.

Comments Due: 5 p.m. ET 8/7/19.

Docket Numbers: EG19-152-000.

Applicants: RE Maplewood 2 LLC.

Description: Notice of Self-Certification of Exempt Wholesale Generator Status of RE Maplewood 2 LLC.

Filed Date: 7/17/19.

Accession Number: 20190717-5031.

Comments Due: 5 p.m. ET 8/7/19.

Take notice that the Commission received the following electric rate filings:

Docket Numbers: ER18-2344-001.

Applicants: Headwaters Wind Farm LLC.

Description: Report Filing: Refund Report Filing to be effective N/A.

Filed Date: 7/16/19.

Accession Number: 20190716-5071.

Comments Due: 5 p.m. ET 8/6/19.

Docket Numbers: ER19-373-001.

Applicants: Paulding Wind Farm II LLC.

Description: Report Filing: Refund Report Filing to be effective N/A.

Filed Date: 7/16/19.

Accession Number: 20190716-5072.

Comments Due: 5 p.m. ET 8/6/19.

Docket Numbers: ER19-1357-000.

Applicants: GridLiance High Plains LLC.

Description: Motion to Intervene and Consolidate and Formal Challenge of Xcel Energy Services Inc. to March 15, 2019 Annual Informational filing by GridLiance High Plains, LLC.

Filed Date: 7/1/19.

Accession Number: 20190701-5344.

Comments Due: 5 p.m. ET 7/31/19.

Docket Numbers: ER19-1802-000.

Applicants: Portland General Electric Company.

Description: Response of Portland General Electric Company to June 25, 2019 Letter requesting additional information.

Filed Date: 7/16/19.

Accession Number: 20190716-5131.

Comments Due: 5 p.m. ET 8/6/19.

Docket Numbers: ER19-2029-001.

Applicants: Mankato Energy Center II, LLC.

Description: Tariff Amendment: Amendment to Mankato Energy Center II Reactive Supply Service Tariff Filing to be effective 6/1/2019.

Filed Date: 7/17/19.

Accession Number: 20190717-5058.

Comments Due: 5 p.m. ET 8/7/19.

Docket Numbers: ER19-2408-000.

Applicants: ITC Midwest LLC.

Description: § 205(d) Rate Filing: Filing of Joint Use Agreement with MidAmerican to be effective 9/15/2019.

Filed Date: 7/16/19.

Accession Number: 20190716-5107.

Comments Due: 5 p.m. ET 8/6/19.

Docket Numbers: ER19-2409-000.

Applicants: Midcontinent Independent System Operator, Inc.

Description: § 205(d) Rate Filing: 2019-07-17_SA 2414 ATC-DPC 2nd Rev T-T to be effective 7/15/2019.

Filed Date: 7/17/19.

Accession Number: 20190717-5049.

Comments Due: 5 p.m. ET 8/7/19.

Docket Numbers: ER19-2410-000.

Applicants: Midcontinent Independent System Operator, Inc.

Description: § 205(d) Rate Filing: 2019-07-17_SA 3331 WPSC-ATC E&P (J886) to be effective 7/15/2019.

Filed Date: 7/17/19.

Accession Number: 20190717-5061.

Comments Due: 5 p.m. ET 8/7/19.

Docket Numbers: ER19-2411-000.

Applicants: American Transmission Systems, Incorporated, PJM Interconnection, L.L.C.

Description: § 205(d) Rate Filing: ATSI submits 5 ECSAs, Service Agreement Nos. 5208, 5331, 5332, 5339, and 5392 to be effective 9/16/2019.

Filed Date: 7/17/19.

Accession Number: 20190717-5069.

Comments Due: 5 p.m. ET 8/7/19.

Take notice that the Commission received the following qualifying facility filings:

Docket Numbers: QF19-1362-000.

Applicants: Orbit Bloom Energy, LLC.

Description: Application for Certification of Qualifying Cogeneration Facility Status of Orbit Bloom Energy, LLC.

Filed Date: 7/12/19.

Accession Number: 20190712-5210.

Comments Due: 5 p.m. ET 7/12/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 17, 2019.
Nathaniel J. Davis, Sr.,
Deputy Secretary.

[FR Doc. 2019-15574 Filed 7-22-19; 8:45 am]

BILLING CODE 6717-01-P